DEPARTMENT OF ENERGY

Federal Energy Regulatory Commission

Combined Notice of Filings # 1

October 26, 2009.

Take notice that the Commission received the following electric corporate filings:

Docket Numbers: EC09-104-001.

Applicants: Lord, Abbett & Co. LLC.

Description: Lord Abbett & Co, LLC submits a request for alternative relief as requested in its August 19, 2009 Application.

Filed Date: 10/22/2009.

Accession Number: 20091026-0293.

Comment Date: 5 p.m. Eastern Time on Thursday, November 5, 2009.

Take notice that the Commission received the following electric rate filings:

Docket Numbers: ER06-560-004.

Applicants: Credit Suisse Energy LLC.

Description: Notice of Non-Material Change in Status of Credit Suisse Energy LLC.

Filed Date: 10/23/2009.

Accession Number: 20091023-5102.

Comment Date: 5 p.m. Eastern Time on Friday, November 13, 2009.

Docket Numbers: ER08-378-002; ER09-560-001.

Applicants: Covanta Delano, Inc.; Covanta Maine, LLC.

Description: Covanta Delano, Inc. et al. submits Second Revised Sheet 1 et al. to No 1 FERC Electric Tariff, Revised Volume 1.

Filed Date: 10/20/2009.

Accession Number: 20091026-0017.

Comment Date: 5 p.m. Eastern Time on Tuesday, November 10, 2009.

Docket Numbers: ER09-172-005; ER09-173-005; ER09-174-003; ER06-1355-005; ER09-1400-001; ER09-1549-001.

Applicants: Canandaigua Power Partners, LLC; Canandaigua Power Partners II, LLC; Evergreen Wind Power V, LLC; Evergreen Wind Power, LLC; Milford Wind Corridor Phase I, LLC; First Wind Energy Marketing, LLC.

Description: Canandiagua Power Partners, LLC et al. submits supplemental information re pending submissions.

Filed Date: 10/21/2009.

Accession Number: 20091023-0017.

Comment Date: 5 p.m. Eastern Time on Thursday, November 12, 2009.

Docket Numbers: ER09-1381-001.

Applicants: Allegheny Energy Supply Company, LLC.

Description: Allegheny Energy Supply Company, LLC submits Substitute Original Sheet No 2B to FERC Electric Tariff, Second Revised Volume 1.

Filed Date: 10/19/2009.

Accession Number: 20091026-0018.

Comment Date: 5 p.m. Eastern Time on Monday, November 9, 2009.

Docket Numbers: ER10-104-000.

Applicants: Cleco Power LLC, Arcadia Power Partners, LLC.

Description: Acadia Power Partners, LLC et al. submits Joint Application requesting authorization from the Commission of a short term power purchase agreement.

Filed Date: 10/26/2009.

Accession Number: 20091026-0295.

Comment Date: 5 p.m. Eastern Time on Monday, November 16, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-26249 Filed 10-30-09; 8:45 am]

BILLING CODE 6717-01-P